DEPARTMENT OF HEALTH AND HUMAN SERVICES

Administration on Aging

Availability of Funding Opportunity Announcement

Purpose of Notice: Availability of funding opportunity announcement.

Funding Opportunity Title/Program Name: Nursing Home Diversion Modernization Grant.

Announcement Type: Initial Announcement.

Funding Opportunity Number: HHS-2006-AoA-CD-0713.

Statutory Authority: The Older Americans Act, Public Law 109-365.

Catalog of Federal Domestic Assistance (CFDA) Number: 93.048, Title IV and Title II, Discretionary Projects.

DATES: The deadline date for the submission of applications is August 24, 2007.

I. Funding Opportunity Description

This Program Announcement provides an opportunity for State Units on Aging (SUA) in partnership with Area Agencies on Aging (AAA) to collaborate with aging service provider organizations, and other long-term care stakeholders to modernize and transform their existing Older Americans Act Title IIIB, IIIE, and Alzheimer's Disease Demonstration Grant (ADDGS) funds, and other non-Medicaid state revenue sources, into flexible, consumer directed service dollars that support nursing home diversion programs consistent with the standards described on the Nursing Home Diversion Modernization Grant Announcement Resource Page(http://www.aoa.gov/doingbus/fundopp/announcements/2007/NHDP_Resource_Page.doc).

While statewide implementation of nursing home diversion programs should be a long-term goal of programs funded under this announcement, a SUA, working with at least one AAA, may propose a project within the AAA's geographic area of the state. States with a single Planning and Service Area (PSA) may propose activities targeted to a single county or region of the state.

A detailed description of the funding opportunity may be found at http://www.grants.gov or at http://www.aoa.gov on the AoA Grant Programs Funding Opportunity webpage (http://aoa.gov/doingbus/fundopp/fundopp.asp).

II. Award Information

1. Funding Instrument Type

These grants will be issued as Cooperative Agreements because AoA anticipates having substantial involvement with the recipients during performance of funded activities. This involvement may include: assisting the project leadership in understanding the strategic goals and objectives, policy perspectives, and priorities of the Assistant Secretary for Aging and the AoA by sharing such information on an ongoing basis via e-mail, conference calls, briefings, and other consultations; providing technical assistance and support on grant management and implementation issues, including execution of the cooperative agreement; defining project performance criteria and expectations; and, monitoring, evaluating and supporting the projects' efforts in achieving performance goals.

2. Anticipated Total Priority Area Funding per Budget Period

AoA intends to make available, under this program announcement, grant awards for up to $500,000 each for to up to 12 States at a total federal share of approximately $5,000,000 for an 18 month project period.

III. Eligibility Criteria and Other Requirements

1. Eligible Applicants

Eligibility for grant awards is limited to State Units on Aging.

2. Cost Sharing or Matching

Grantees are required to provide at least 25 percent of the total program costs from non-federal cash or in-kind resources in order to be considered for the award.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

1. Address To Request Application

Application kits are available by writing to the U.S. Department of Health and Human Services, Administration on Aging, Richard Nicholls, Center for Planning and Policy Development, Washington, DC 20201, at (202) 357-0152, richard.nicholls@aoa.hhs.gov, or online at http://www.grants.gov or http://www.aoa.gov/doingbus/fundopp/fundopp.asp.

2. Address for Application Submission

Applications must be submitted electronically to http://www.grants.gov. In order to be able to submit the application, you must register in the Central Contractor Registry (CCR) database. Information about CCR is available at http://www.grants.gov/CCRRegister. Instructions for electronic submission of grant applications are available at http://www.grants.gov.

3. Submission Dates and Times

To receive consideration, applications must be submitted electronically by midnight Eastern time by the deadline listed in the DATES section at the beginning of this Notice.

4. Information Teleconference

An open information teleconference for applicants of this solicitation will be held July 11, 2007 at 3 p.m., EST. The toll-free teleconference phone number will be (888) 381-5770, passcode: 9559261, leader name: John Wren. For information about the call, contact: U.S. Department of Health and Human Services, Administration on Aging, Linda Velgouse, Center for Planning and Policy Development, Washington, DC 20201, linda.velgouse@aoa.hhs.gov, or (202) 357-3427.

V. Responsiveness Criteria

Each application submitted will be screened to determine whether it was received by the closing date and time. Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria:

A. Demonstration of an accurate understanding of AoA's vision for Nursing Home Diversion Programs, including the key design elements described in Attachment A, and how nursing home diversion programs targeted at individuals who are not eligible for Medicaid fit into the larger long-term care policy environment, and state long-term care reform/rebalancing efforts;

B. The degree of progress anticipated during the 18 month project period, compared to the “status quo” in the State and in the geographic area where the project will be implemented, in transforming existing OAA and other non-Medicaid funding to reflect the standards described in Attachment A;

C. The likelihood that the project, based on the information provided in the application and consistent with the standards in Attachment A, will be able—by the end of the 18 month grant period—to be:

1. Serving consumers with flexible service options that are not limited to any particular service or package of services with funds from Title III-B, III-E, ADDGS, and/or other non-Medicaid programs;

2. Using targeting criteria that allow the project to effectively identify and serve individuals who are at risk of nursing home placement and spend down to Medicaid; and,

3. Using a Single Entry Point system to perform the functions of client screening, assessment, care planning, and the targeting of services to individuals who are at-risk of nursing home placement and spend-down to Medicaid;

D. The likelihood that the project will actually succeed in achieving all its goals and objectives, based on the proposed approach, the project work plan, the involvement of key stakeholders, and other information contained in the application;

E. The likelihood, based on the information contained in the application, that the changes resulting from the project will be sustained beyond the grant period, as well as the degree to which the changes are likely to be incorporated into the state's overall system of long-term care.

VII. Agency Contacts

Direct inquiries regarding programmatic issues to U.S. Department of Health and Human Services, Administration on Aging, Linda Velgouse, Center for Planning and Policy Development, Washington, DC 20201, at (202) 357-3427, or linda.velgouse@aoa.hhs.gov.

Dated: June 20, 2007.
John Wren,
Deputy Assistant Secretary for Management.

[FR Doc. E7-12276 Filed 6-22-07; 8:45 am]

BILLING CODE 4154-01-P